DEPARTMENT OF HEALTH AND HUMAN SERVICES

Food and Drug Administration

21 CFR Part 74

[Docket No. FDA-1998-C-0381] (Formerly Docket No. 98C-0676)

Sensient Technologies Corporation; Withdrawal of Color Additive Petition

AGENCY: Food and Drug Administration, HHS.

ACTION: Notice of withdrawal.

SUMMARY: The Food and Drug Administration (FDA) is announcing the withdrawal, without prejudice to a future filing, of a color additive petition (CAP 8C0261) proposing that the color additive regulations be amended to provide for the safe use of External D&C Violet No. 2 in coloring externally applied drug products.

FOR FURTHER INFORMATION CONTACT: Ellen Anderson, Center for Food Safety and Applied Nutrition (HFS-265), Food and Drug Administration, 5100 Paint Branch Pkwy., College Park, MD 20740-3835, 240-402-1309.

SUPPLEMENTARY INFORMATION: In a notice published in the Federal Register of August 24, 1998 (63 FR 45073), FDA announced that a color additive petition (CAP 8C0261) had been filed by Warner-Jenkinson Co., Inc. (now part of Sensient Cosmetic Technologies, a unit of Sensient Technologies Corporation), 107 Wade Ave., South Plainfield, NJ 07080. The petition proposed to amend the color additive regulations in 21 CFR part 74 Listing of Color Additives Subject to Certification to provide for the safe use of External D&C Violet No. 2 in coloring externally applied drug products. Sensient Technologies Corporation has now withdrawn the petition without prejudice to a future filing (21 CFR 71.6(c)(2)).

Dated: July 16, 2013.
Dennis M. Keefe,
Director, Office of Food Additive Safety, Center for Food Safety and Applied Nutrition.

[FR Doc. 2013-17382 Filed 7-18-13; 8:45 am]

BILLING CODE 4160-01-P